FEDERAL ACCOUNTING STANDARDS ADVISORY BOARD

Significant Assumptions for the Statement of Social Insurance

AGENCY: Federal Accounting Standards Advisory Board.

ACTION: Notice.

Board Action: Pursuant to the Federal Advisory Committee Act (Pub. L. 92-463), as amended, and the FASAB Rules of Procedure, as amended in October, 1999, notice is hereby given that the Federal Accounting Standards Advisory Board (FASAB) has published a new exposure draft, Presentation of Significant Assumptions for the Statement of Social Insurance.

A summary of the proposed statement follows: On March 12, 2004, the Federal Accounting Standard Advisory Board (FASAB) released for public comment an exposure draft (ED), Presentation of Significant Assumptions for the Statement of Social Insurance. The proposed standard would require disclosure of significant assumptions underlying the Statement of Social Insurance.

The exposure draft is available on the FASAB home page http://www.fasab.gov/exposure.html. Copies can be obtained by contacting FASAB at (202) 512-7350, or fasab@fasab.gov.

Respondents are encouraged to comment on any part of the exposure draft. Written comments are requested by May 17, 2004, and should be sent to: Wendy M. Comes, Executive Director, Federal Accounting Standards Advisory Board, 441 G Street, NW., Suite 6814, Mal Stop 6K17V, Washington, DC 20548.

FOR FURTHER INFORMATION CONTACT: Wendy Comes, Executive Director, 441 G Street, NW., Washington, DC 20548, or call (202) 512-7350.

Authority: Federal Advisory Committee Act, Pub. L. 92-463.

Dated: March 15, 2004.
Wendy M. Comes,
Executive Director.

[FR Doc. 04-6246 Filed 3-19-04; 8:45 am]

BILLING CODE 1610-01-M